DEPARTMENT OF LABOR

Employment and Training Administration

[TA-W-56,431]

Kennedy Die Castings, Inc., Currently Known as Thermalcast LLC, Including On-Site Leased Workers From Excel Staffing, Worcester, MA; Amended Certification Regarding Eligibility To Apply for Worker Adjustment Assistance and Alternative Trade Adjustment Assistance

In accordance with section 223 of the Trade Act of 1974 (19 U.S.C. 2273), and section 246 of the Trade Act of 1974 (19 U.S.C. 2813), as amended, the Department of Labor issued a Certification of Eligibility To Apply for Worker Adjustment Assistance and Alternative Trade Adjustment Assistance on February 23, 2005, applicable to all workers of Kennedy Die Castings, Inc., Worcester, Massachusetts, including on-site leased workers from Excel Staffing. The notice was published in the Federal Register on March 9, 2005 (70 FR 11704).

At the request of a petitioner, the Department reviewed the certification for workers of the subject firm. The workers produced aluminum and zinc die cast components.

New information provided to the Department by a company official shows that in December 2004, Kennedy Die Castings, Inc., Worcester, Massachusetts, was purchased by Thermalcast LLC, and continued the production of aluminum and zinc die cast components. Therefore, the Department is amending the certification to reflect the new ownership.

The intent of the certification is to include all workers of the firm adversely affected by increased imports of aluminum and zinc die cast components.

The amended notice applicable to TA-W-56,431 is hereby issued as follows:

“All workers of Kennedy Die Castings, Inc., currently known as Thermalcast LLC, Worcester, Massachusetts, including on-site leased workers from Excel Staffing, who became totally or partially separated from employment on or after January 3, 2004, through February 23, 2007, are eligible to apply for adjustment assistance under Section 223 of the Trade Act of 1974, and are also eligible to apply for alternative trade adjustment assistance under Section 246 of the Trade Act of 1974.”

Signed at Washington, DC, this 23rd day of March, 2006.
Linda G. Poole,
Certifying Officer, Division of Trade Adjustment Assistance.

[FR Doc. E6-5516 Filed 4-12-06; 8:45 am]

BILLING CODE 4510-30-P